DEPARTMENT OF JUSTICE

Notice of Lodging of Consent Decree Under the Comprehensive Environmental Response, Compensation and Liability Act (CERCLA)

In accordance with section 122(d)(2)(B) of the Comprehensive Environmental Response, Compensation, and Liability Act (“CERCLA”), 42 U.S.C. 9622(d)(2), and 28 CFR 50.7, notice is hereby given that on December 9, 2011, a proposed Consent Decree in United States of America v. Akzo Nobel Chemicals, Inc., Civil Action No. 1:11-cv-00701-CG-C, was lodged with the United States District Court for the Southern District of Alabama, Southern Division.

In this action, brought pursuant to sections 106(a) and 107 of CERCLA, 42 U.S.C. 9606(a) and 9607, the United States seeks injunctive relief to remedy conditions in connection with the release or threatened release of hazardous substances into the environment at the Stauffer Chemical Company Cold Creek Superfund Site and LeMoyne Plants Superfund Site (the “Sites”), Operable Unit Three, in Mobile County, Alabama. The United States also seeks to recover unreimbursed costs incurred, and to be incurred, for response activities at the Site. Under the proposed Consent Decree, defendants agree to undertake remedial work at the Site, to reimburse the United States for all of its past response costs ($912,913.27), and to pay future costs, relating to Operable Unit Three at the Sites.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to United States of America v. Akzo Nobel Chemicals, Inc., D.J. Ref. 90-11-2-912/2.

The Consent Decree may be examined at U.S. EPA Region 4, Atlanta Federal Center, 61 Forsyth Street, Atlanta, Georgia 30303. During the public comment period, the Consent Decree, may also be examined on the following Department of Justice Web site, http://www.usdoj.gov/enrd/Consent_Decrees.html. A copy of the Consent Decree may also be obtained by mail from the Consent Decree Library, P.O. Box 7611, U.S. Department of Justice, Washington, DC 20044-7611 or by faxing or emailing a request to Tonia Fleetwood (tonia.fleetwood@usdoj.gov), fax no. (202) 514-0097, phone confirmation number (202) 514-1547. In requesting a copy from the Consent Decree Library, please enclose a check in the amount of $12.50 (for the Consent Decree only) and $64.00 for the Consent Decree and all exhibits thereto) (25 cents per page reproduction cost) payable to the U.S. Treasury or, if by email or fax, forward a check in that amount to the Consent Decree Library at the stated address.

Henry Friedman,
Assistant Section Chief, Environmental Enforcement Section, Environment and Nat. Resources Division.

[FR Doc. 2011-32478 Filed 12-19-11; 8:45 am]

BILLING CODE 4410-15-P